DEPARTMENT OF STATE

[Public Notice 6938]

Certifications Pursuant to Section 609 of Public Law 101-162

SUMMARY: On March 24, 2010, the Department of State notified Congress that it had withdrawn Mexico's certification under United States Public Law 101-162, Section 609, because Mexico's turtle excluder device (TED) program was not currently comparable to the United States program as required by the statute. Withdrawal of Mexican certification is primarily a compliance and environmental issue, but it does have trade implications. The United States government is providing the Government of Mexico with detailed technical recommendations and capacity-building support with a view to strengthening Mexico's sea turtle protection program. Both governments will continue to actively seek further engagement opportunities to ensure renewal of Mexican certification within the shortest period of time consistent with the requirements of U.S. law.

DATES: Effective Date: On publication.

FOR FURTHER INFORMATION CONTACT: James J. Hogan, III, Office of Marine Conservation, Bureau of Oceans and International Environmental and Scientific Affairs, Department of State, Washington, DC 20520-7818; telephone: (202) 647-2252.

SUPPLEMENTARY INFORMATION: Section 609 of Public Law 101-162 prohibits imports of certain categories of shrimp unless the President certifies to the Congress not later than May 1 of each year either: (1) That the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State. Revised State Department guidelines for making the required certifications were published in the Federal Register on July 2, 1999 (Vol. 64, No. 130, Public Notice 3086).

The Department of State has communicated this decision under Section 609 to the Office of Field Operations of U.S. Customs and Border Protection.

This decision regarding withdrawal of Mexico's certification means that wild-harvest shrimp from Mexico's commercial trawl fisheries may not be imported into the United States until Section 609 certification for Mexico can be reinstated. A Department of State DS-2031 form signed by the exporter and importer must accompany all shrimp imports into the United States. If shrimp products are from a non-certified country, a government official of the harvesting nation must also certify the shrimp was caught without harming sea turtles. Users should check boxes 7(A)(1) for aquaculture shrimp products or 7(A)(3) for artisanal shrimp products. Users should note that exception 7.A.(2) on the form “Harvested Using TEDs,” while a currently valid exception to the prohibition on imports from nations not certified under Public Law 101-162, is only available once the Department of State determines in advance that a country wishing to use this exception has in place an enforcement and catch segregation system for making such individual shipment certifications. Presently, only Brazil and Australia have shown that they have a system in place for specific fisheries. Exception 7(A)(4) is for other case-by-case, special circumstance determinations made by the Department of State in advance. For these reasons exceptions 7(A)(2) and 7(A)(4) are not applicable to imports of wild-caught shrimp from Mexico.

Dated: March 24, 2010.
David A. Balton,
Deputy Assistant Secretary for Oceans and Fisheries, Department of State.

[FR Doc. 2010-7221 Filed 3-30-10; 8:45 am]

BILLING CODE 4710-09-P